DEPARTMENT OF LABOR

Employment and Training Administration

[TA-W-37,541]

Joshua L. Bailey Co., Inc., Hoboken, New Jersey; Dismissal of Application for Reconsideration

Pursuant to 29 CFR 90.18(C) an application for administrative reconsideration was filed with the Director of the Division of Trade Adjustment Assistance for workers at Joshua L. Bailey Co., Inc., Hoboken, New Jersey. The application contained no new substantial information which would bear importantly on the Department's determination. Therefore, dismissal of the application was issued.

TA-W-37, 541; Joshua L. Bailey Co., Hoboken, New Jersey (May 24, 2000).

Signed at Washington, DC this 25th day of May 2000.
Grant D. Beale,
Program Manager, Division of Trade Adjustment Assistance.

[FR Doc. 00-13758 Filed 6-1-00; 8:45 am]

BILLING CODE 4510-30-M